DEPARTMENT OF THE INTERIOR

National Park Service

[NPS-WASO-NAGPRA-18523; PPWOCRADN0-PCU00RP14.R50000]

Notice of Intent To Repatriate Cultural Items: Washington State Parks and Recreation Commission, Olympia, WA

AGENCY: National Park Service, Interior.

ACTION: Notice.

SUMMARY: The Washington State Parks and Recreation Commission [hereafter State Parks], in consultation with lineal descendants and the appropriate Indian tribes or Native Hawaiian organizations, has determined that the cultural items listed in this notice meet the definition of unassociated funerary objects. Lineal descendants or representatives of any Indian tribe or Native Hawaiian organization not identified in this notice that wish to claim these cultural items should submit a written request to State Parks. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to State Parks at the address in this notice by September 4, 2015.

ADDRESSES: Alicia Woods, Washington State Parks and Recreation Commission, P.O. Box 42650, Olympia, WA 98504-2650, telephone (360) 902.0939, email Alicia.Woods@parks.wa.gov.

SUPPLEMENTARY INFORMATION: Notice is here given in accordance with the Native American Graves Protection and Repatriation Act (NAGPRA), 25 U.S.C. 3005, of the intent to repatriate cultural items under the control of the State Parks, Olympia, WA, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1951, 88 cultural items were removed from the archeological site 45-SP-5 in Spokane County, WA, by Louis R. Caywood with the National Park Service and under contract with State Parks. During the archeological excavation of the site, the burial location of Jacques Raphael Finlay (1768-1828, of Saulteaux-Cree (Chippewa)/Eastern Woodland (Ojibwe) and Scottish descent) was discovered and removed along with 88 documented funerary objects. In 1976, the Finlay/Finley family, spanning (at minimum) a tristate region, requested and received permission for the reburial of Mr. Finlay's remains. A detailed inventory of the collection in 2005 revealed the funerary objects had not been reburied with Mr. Finlay's remains. In 1951 at the time of excavation, a Memorandum of Agreement between the Eastern Washington State Historical Society (EWSHS, also now known as the Northwest Museum of Arts and Culture) and State Parks released custody and control of all excavated material to EWSHS. In 1976, the EWSHS deaccessioned Mr. Finlay's remains and released them to Mr. Elwood Ball of Ball and Dodd Funeral Home for reburial. In 1989, the EWSHS deaccessioned the balance of the 1951 excavated material in a transfer to State Parks. The funerary objects listed below were identified in the collection by staff at the Burke Museum of Natural History and Culture (Burke Museum) in 2005. The objects were subsequently transferred to State Parks headquarters in Olympia, WA.

The 88 unassociated funerary objects are 3 brass buttons, 2(+) fragments of cloth, 2 fragments of glass and 9 metal fragments believed to have once been a pair of spectacles, 1 bone comb fragment, 17 nails believed to have been from the burial vessel, 2 pipe bowl fragments, 5 pipe stem fragments, 1 glass bead fragment, 1 porcelain fragment, 20(+) wood fragments believed to be from the burial vessel, 1 charcoal fragment, 1 white clay fragment, 1 complete wood pipe and 20(+) particles of burned tobacco. One (1) “killed” knife with wood handle and 1 writing slate are missing from inventory. Efforts to track and recover these two items over the last four years have failed.

The site is that of Spokane House, a fur trade fort, founded and built by Mr. Finlay (an on-again, off-again employee of the North West Company and a free/independent trader) and a colleague under the direction of David Thompson around 1809. The fort changed ownership to the Hudson's Bay Company, who, in 1825, moved their operation from Spokane House (Nisbet, 2003). Mr. Finlay first arrived in what would later become the Spokane, WA, area with a wife and children. Mr. Finlay's wife is believed to have been from a similar or close tribe to that of his mother's. At some point Mr. Finlay took one, possibly two more wives, both believed to have been Native American women, and went on to father more children. In total he appears to have had, at minimum, 15 children, although possibly as many as 19 children. He died in December of 1828, and his wife buried him at the site of Spokane House.

State Parks staff has determined the 88 unassociated funerary objects are reasonably believed to have been placed with or near Mr. Finlay at the time of his death or later as part of the death rite or ceremony. The surviving Finlay family is large (some estimates put their size at over 11,000 living in the 1990s). State Parks performed a lineal descendant search that resulted in 35 descendants that contacted State Parks and 12 lineal descendants that placed formal claims. The claimants are as follows: Dumont, Harold Tommy; Dumont-Friday, Michelle; Dumont, Monte; Childress, JuLee Lain; Childress, Michael L.; Childress, minor child #1; Childress, minor child #2; Finley, Marian; Loper, Donald; Salois, Britton; Samsel, Joan; and Trahan, Albert. State Parks has also determined there is a relationship of shared group identity that can be reasonably traced between Mr. Finlay's funerary objects and modern-day tribes. Based on a preponderance of the following evidence the objects are culturally affiliated to the modern-day tribes of the Coeur d'Alene Tribe of the Coeur d'Alene Reservation, Idaho; Confederated Salish and Kootenai Tribes of the Flathead Reservation, Montana; Confederated Tribes of the Colville Reservation, Washington; Kalispel Tribe of the Kalispel Reservation, Washington; and Spokane Tribe of the Spokane Reservation, Washington. This determination is based on ethnographic evidence that the Upper and Middle Spokane people predominantly resided in the area and utilized the resources of the site both pre and post-contact. Included in this evidence are tribal members and tribal descents that share kinship connections; shared linguistic heritage, overlapping trade networks, battle alliances, shared resource protection, cooperative hunting parties, and shared burial practices (Fahey, 1986; Luttrell, 2011; Ruby and Brown, 1970 & 1981; Walker, 1998). Additionally, in consultation with the Spokane Tribe, representatives of the tribe stated the site is a part of their people's traditional territory.

State Parks received a joint claim for repatriation for the funerary objects from the lineal descendant claimants listed above and the Coeur d'Alene Tribe of the Coeur d'Alene Reservation, Idaho; Confederated Salish and Kootenai Tribes of the Flathead Reservation, Montana; Confederated Tribes of the Colville Reservation, Washington; Kalispel Tribe of the Kalispel Reservation, Washington; and Spokane Tribe of the Spokane Reservation, Washington.

Determinations Made by the Washington State Parks and Recreation Commission

Officials of the Washington State Parks and Recreation Commission have determined that:

• Pursuant to 25 U.S.C. 3001(3)(B), the 88 unassociated funerary objects described above are reasonably believed to have been placed with or near individual human remains at the time of death or later as part of the death rite or ceremony and are believed, by a preponderance of the evidence, to have been removed from a specific burial site of a Native American individual.

• Pursuant to 25 U.S.C. 3005(a)(5)(A), Dumont, Harold Tommy; Dumont-Friday, Michelle; Dumont, Monte; Childress, JuLee Lain; Childress, Michael L.; Childress, minor child #1; Childress, minor child #2; Finley, Marian; Loper, Donald; Salois, Britton; Samsel, Joan; and Trahan, Albert are the direct lineal descendants of the individual who owned these funerary objects.

• Pursuant to 25 U.S.C. 3001(2), there is a relationship of shared group identity that can be reasonably traced between the unassociated funerary objects and the Coeur d'Alene Tribe of the Coeur d'Alene Reservation, Idaho; Confederated Salish and Kootenai Tribes of the Flathead Reservation, Montana; Confederated Tribes of the Colville Reservation, Washington; Kalispel Tribe of the Kalispel Reservation, Washington; and Spokane Tribe of the Spokane Reservation, Washington.

Additional Requestors and Disposition

Lineal descendants or representatives of any Indian tribe or Native Hawaiian organization not identified in this notice that wish to claim these cultural items should submit a written request with information in support of the claim to Alicia Woods, Washington State Parks and Recreation Commission, P.O. Box 42650, Olympia, WA 98504-2650, telephone (360) 902-0939, email Alicia.Woods@parks.wa.gov, by September 4, 2015. After that date, if no additional claimants have come forward, transfer of control of the unassociated funerary objects to the listed lineal descendants and the Coeur d'Alene Tribe of the Coeur d'Alene Reservation, Idaho; Confederated Salish and Kootenai Tribes of the Flathead Reservation, Montana; Confederated Tribes of the Colville Reservation, Washington; Kalispel Tribe of the Kalispel Reservation, Washington; and Spokane Tribe of the Spokane Reservation, Washington, may proceed.

The Washington State Parks and Recreation Commission is responsible for notifying the lineal descendants; Coeur d'Alene Tribe of the Coeur d'Alene Reservation, Idaho; Confederated Salish and Kootenai Tribes of the Flathead Reservation, Montana; Confederated Tribes of the Colville Reservation, Washington; Kalispel Tribe of the Kalispel Reservation, Washington; and Spokane Tribe of the Spokane Reservation, Washington, that this notice has been published.

Dated: June 29, 2015.
Melanie O'Brien,
Manager, National NAGPRA Program.

[FR Doc. 2015-19266 Filed 8-4-15; 8:45 am]

BILLING CODE 4312-50-P